DEPARTMENT OF THE INTERIOR

Bureau of Indian Affairs

[223A2100DD/AAKC001030/A0A501010.999900]

Land Acquisitions; White Earth Band of the Minnesota Chippewa Tribe, Minnesota, Buschelle Site, Clearwater County, Minnesota

AGENCY: Bureau of Indian Affairs, Interior.

ACTION: Notice.

SUMMARY: The Assistant Secretary—Indian Affairs made a final agency determination to acquire in trust 92.18 acres, more or less, of land known as the Buschelle Site in Clearwater County, Wisconsin, (Site) for the White Earth Band of the Minnesota Chippewa Tribe, Minnesota, (Tribe) for gaming and other purposes.

DATES: This final determination was made on November 17, 2022.

FOR FURTHER INFORMATION CONTACT: Ms. Paula L. Hart, Director, Office of Indian Gaming, Mailstop 3543, 1849 C Street NW, Washington, DC 20240, paula.hart@bia.gov, (202) 219-4066.

SUPPLEMENTARY INFORMATION: On the date listed in the DATES section of this notice, the Assistant Secretary—Indian Affairs made a final agency determination to acquire the Site, consisting of 92.18 acres, more or less, in trust for the Tribe under the authority of the Indian Reorganization Act of June 18, 1934, 25 U.S.C. 5108.

The Assistant Secretary—Indian Affairs, on behalf of the Secretary of the Interior, will immediately acquire title to the Site in the name of the United States of America in trust for Tribe upon fulfillment of all Departmental requirements. The legal description for the Site is as follows:

The Southwest Quarter of the Northwest Quarter (SW1/4NW1/4) and Government Lot Four (4), Section Four (4), Township One Hundred Forty-six (146) North of Range Thirty-eight (38) West of the Fifth Principal Meridian in Clearwater County, Minnesota.

Authority

This notice is published in the exercise of authority delegated by the Secretary of the Interior to the Assistant Secretary—Indian Affairs by 209 Departmental Manual 8.1, and is published to comply with the requirements of 25 CFR 151.12 (c)(2)(ii) that notice of the decision to acquire land in trust be promptly provided in the Federal Register.

Bryan Newland,
Assistant Secretary—Indian Affairs.

[FR Doc. 2022-25619 Filed 11-22-22; 8:45 am]

BILLING CODE 4337-15-P